DEPARTMENT OF HEALTH AND HUMAN SERVICES

National Institutes of Health

NIH State-of-the-Science Conference: Enhancing Use and Quality of Colorectal Cancer Screening

Notice is hereby given by the National Institutes of Health (NIH) of the “NIH State-of-the-Science Conference: Enhancing Use and Quality of Colorectal Cancer Screening” to be held February 2-4, 2010, in the NIH Natcher Conference Center, 45 Center Drive, Bethesda, Maryland 20892. The conference will begin at 8:30 a.m. on February 2 and 3, and at 9 a.m. on February 4, and will be open to the public.

Colorectal cancer is the second-leading cause of cancer-related deaths in the United States. Approximately 50,000 people in the United States are expected to die from colorectal cancer in 2009. Colonic polyps, abnormal growths of tissue on the inner lining of the colon, are relatively common findings in men and women 50 years and older. Most of these growths are not cancerous, but one type of polyp, known as an adenoma, can develop into colorectal cancer. Screening tests for colorectal cancer generally either seek to identify and remove adenomas or examine the stool for signs of early cancer in people who have no symptoms. A range of colorectal cancer screening tests is available in the United States. The U.S. Preventive Services Task Force currently recommends that average-risk adults aged 50 to 75 years undergo screening for colorectal cancer with annual fecal occult blood testing, sigmoidoscopy (internal examination of the lower part of the large intestine) every 5 years, or colonoscopy (internal examination of the entire large intestine) every 10 years. Additional tests that may be used for colorectal cancer screening include computed tomography (CT) colonography and fecal DNA testing.

Although colorectal cancer is an important cause of mortality in the United States, screening for this disease is currently underutilized among eligible individuals. Despite evidence supporting the value of screening, in 2005 only 50 percent of U.S. adults aged 50 and older had been screened according to guidelines. Rates of screening for colorectal cancer are consistently lower than those for other common cancers, particularly breast and cervical cancer. Reasons for this disparity are complex. Unlike most other preventive services, in colorectal cancer screening there are multiple test options from which to choose, and patients and providers may have varying preferences for or access to the tests. Successful completion of colorectal cancer screening requires effort on the part of the patient to obtain stool samples for testing or to clean the colon in preparation for endoscopic examination. Test options may also differ in cost and availability for a given community. Patient, provider, and healthcare system characteristics may each play a unique role in influencing the use and quality of colorectal cancer screening.

Adding to the complexity of this issue, colorectal cancer screening may be overused or misused in certain situations. Despite uncertainty regarding the benefit of removing small polyps, many people undergoing sigmoidoscopy or colonoscopy have all identified growths removed. This may put them at increased risk for possible complications from these procedures, which can include rectal bleeding or colonic perforation (a tear in the wall of the intestine that can cause a serious abdominal infection). In addition, follow-up testing of individuals who have previously had polyps removed may occur more frequently than available evidence supports, which again may put people at risk for complications and have both cost and capacity implications for the healthcare system.

To provide healthcare providers, patients, policy makers, and the general public with a comprehensive assessment of how colorectal cancer screening and surveillance are most appropriately implemented, monitored, and evaluated for average-risk populations in the United States, the National Cancer Institute and the Office of Medical Applications of Research of the National Institutes of Health will convene a State-of-the-Science Conference February 2-4, 2010, to assess the available scientific evidence related to the following questions:

• What are the recent trends in the use and quality of colorectal cancer screening?

• What factors influence the use of colorectal cancer screening?

• Which strategies are effective in increasing the appropriate use of colorectal cancer screening and follow-up?

• What are the current and projected capacities to deliver colorectal cancer screening and surveillance at the population level?

• What are the effective approaches for monitoring the use and quality of colorectal cancer screening?

• What research is needed to make the most progress and have the greatest public health impact in promoting the appropriate use of colorectal cancer screening?

An impartial, independent panel will be charged with reviewing the available published literature in advance of the conference, including a systematic literature review commissioned through the Agency for Healthcare Research and Quality. The first day and a half of the conference will consist of presentations by expert researchers and practitioners and open public discussions. On Thursday, February 4, the panel will present a statement of its collective assessment of the evidence to answer each of the questions above. The panel will also hold a press telebriefing to address questions from the media. The draft statement will be published online later that day, and the final version will be released approximately six weeks later. The primary sponsors of this meeting are the NIH National Cancer Institute and the NIH Office of Medical Applications of Research.

Advance information about the conference and conference registration materials may be obtained from the NIH Consensus Development Program Information Center by calling 888-644-2667 or by sending e-mail to consensus@mail.nih.gov. The Information Center's mailing address is P.O. Box 2577, Kensington, Maryland 20891. Registration information is also available on the NIH Consensus Development Program Web site at http://consensus.nih.gov.

Please Note: The NIH has instituted security measures to ensure the safety of employees, guests, and property. All visitors must be prepared to show a photo ID upon request. Visitors may be required to pass through a metal detector and have bags, backpacks, or purses inspected or x-rayed as they enter NIH buildings. For more information about the security measures at NIH, please visit the Web site at http://www.nih.gov/about/visitorsecurity.htm.

Dated: January 6, 2010.
Raynard S. Kington,
Deputy Director, National Institutes of Health.

[FR Doc. 2010-666 Filed 1-14-10; 8:45 am]

BILLING CODE 4140-01-P